DEPARTMENT OF TRANSPORTATION

Surface Transportation Board

[Docket No. FD 35869]

Delaware Lackawaxen & Stourbridge Railroad Company—Operation Exemption—Stourbridge Railroad Company

Delaware Lackawaxen & Stourbridge Railroad Company (DL&S), a noncarrier, has filed a verified notice of exemption under 49 CFR 1150.31 to operate a 24.80-mile rail line between milepost 0.0 at Lackawaxen, in Pike County, Pa., and milepost 24.80 at Honesdale, in Wayne County, Pa. (the Line), pursuant to an operating agreement with Class III rail carrier Stourbridge Railroad Company (SBRR), the owner of the Line.

DL&S states that the agreement provides that DL&S will be the exclusive common carrier freight and passenger operator on the Line. DL&S also states that there will be no restrictions or limitations with regard to the interchange of freight traffic. DL&S notes that it will interchange with the Central New York Railroad Company at milepost 0.0 at Lackawaxen.

The transaction may be consummated on November 26, 2014, the effective date of the exemption (30 days after the exemption was filed).

DL&S certifies that its projected annual revenues as a result of this transaction will not exceed those that would qualify it as a Class III carrier and will not exceed $5 million. DL&S also certifies that this transaction will not result in the creation of a Class I or Class II rail carrier.

If the verified notice contains false or misleading information, the exemption is void ab initio. Petitions to revoke the exemption under 49 U.S.C. 10502(d) may be filed at any time. The filing of a petition to revoke will not automatically stay the effectiveness of the exemption. Stay petitions must be filed by November 19, 2014 (at least seven days before the exemption becomes effective).

An original and 10 copies of all pleadings, referring to Docket No. FD 35869, must be filed with the Surface Transportation Board, 395 E Street SW., Washington, DC 20423-0001. In addition, a copy of each pleading must be served on Richard R. Wilson, 518 N. Center Street, Ste. 1, Ebensburg, PA 15931.

Board decisions and notices are available on our Web site at “WWW.STB.DOT.GOV.”

Decided: November 6, 2014.
By the Board, Rachel D. Campbell, Director, Office of Proceedings.
Raina S. White,
Clearance Clerk.

[FR Doc. 2014-26741 Filed 11-10-14; 8:45 am]

BILLING CODE 4915-01-P